DEPARTMENT OF COMMERCE

National Oceanic and Atmospheric Administration

Proposed Information Collection; Comment Request; Economic Analysis of Shoreline Treatment Options for Coastal New Hampshire

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 13, 2019.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Sarah Gonyo, National Centers for Coastal Ocean Science, NOAA's National Ocean Service, Bldg, SSMC4, Room 9320, 1305 East-West Highway, Silver Spring, MD 20910, Telephone (240) 533-0382 or sarah.gonyo@noaa.gov.

SUPPLEMENTARY INFORMATION:

I. Abstract

This request is for a pretest of a new data collection to benefit the National Oceanic and Atmospheric Administration (NOAA), Office of Coastal Management (OCM), and decision-makers on the state and local level in New Hampshire. NOAA will collect economic data pursuant to the Coastal Zone Management Act (CZMA). A change request will follow for the final collection.

The New Hampshire Coastal Risk and Hazards Commission (CRHC) was established by the State Legislature through RSA 483-E on July 2, 2013. The purpose of the Commission, as stated in the law, is to “recommend legislation, rules and other actions to prepare for projected sea-level rise and other coastal watershed hazards such as storms, increased river flooding and storm water runoff, and the risks such hazards pose to municipalities and the state assets in New Hampshire.” Further, in carrying out this charge, the Commission is specifically directed to “review National Oceanic and Atmospheric Administration and other scientific agency projections of coastal storm inundation and flood risk to determine the appropriate information, data, and property risks” to incorporate into its recommendations.

In 2016, the CRCH recommended the development of a “comprehensive, integrated New Hampshire Coastal Shoreline Management Plan (CSMP) that presents general priorities for coastal shoreline management, as well as site-specific and place-based strategies including, where appropriate, protection, adaptation, and abandonment.” Following a New Hampshire Shoreline Management workshop organized by the Great Bay National Estuarine Research Reserve (GBNERR) in 2014 and consistent with CRHC Recommendation BL6, the New Hampshire Coastal Program (NHCP) has prioritized living shoreline assessment and implementation in its five-year strategy to enhance coastal management (309 Strategy, 2015) and set a longer term goal to develop a Tidal Shoreline Management Plan (TSMP) for New Hampshire.

The National Ocean Service (NOS) proposes to collect economic data to document perceived effects of weather and climate events and adaptation strategies, to assess probable public benefits that would be derived from shoreline treatment options within coastal New Hampshire, and to establish a baseline for future monitoring of NOAA's success in meeting its mandates and obligations.

Respondents will be randomly sampled from households (1) within New Hampshire, (2) within block groups in Maine adjacent to the Piscataqua River, and ( 3) within block groups in Massachusetts adjacent to the Hampton-Seabrook Estuary. Questions will explore such issues as participation in recreational activities, familiarity with weather and climate effects and adaptation methods, sense of place, and opinions on shoreline treatment options. No PII will be collected. The final collection will support the development of a CSMP for New Hampshire as well as provide information to help inform local coastal zone management and planning.

II. Method of Collection

The data collection will take place over a five- to nine-month period and will be comprised of a questionnaire to be completed by the respondent. The data will be collected via a combination of mail and internet survey instrument.

III. Data

OMB Control Number: 0648-xxxx.

Form Number(s): None.

Type of Review: Regular submission (request for a new information collection).

Affected Public: Individuals or households.

Estimated Number of Respondents: 6,000.

Estimated Time per Response: 20 minutes.

Estimated Total Annual Burden Hours: 2,000.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Clearance Officer, Office of the Chief Information Officer, Commerce Department.

[FR Doc. 2019-04571 Filed 3-12-19; 8:45 am]

BILLING CODE 3510-JE-P